POSTAL SERVICE

39 CFR Part 501

Elimination of Customized Postage Products

AGENCY: Postal Service™.

ACTION: Final rule.

SUMMARY: The Postal Service is amending its regulations to eliminate the Customized Postage products offering.

DATES: Effective August 1, 2020.

FOR FURTHER INFORMATION CONTACT: Christy Noel, 202-268-3484.

SUPPLEMENTARY INFORMATION: Effective August 1, 2020, the Postal Service™ is amending title 39 of the Code of Federal Regulations to eliminate the Customized Postage products offering. The Postal Service asked the Postal Regulatory Commission (PRC) to eliminate the Customized Postage products offering and on June 16, 2020, the PRC approved the removal of Customized Postage in Order Number 5550.

List of Subjects in 39 CFR Part 501

Administrative practice and procedure, Authorization to Manufacture and Distribute Postage Evidencing Systems.

For the reasons stated in the preamble, the Postal Service amends 39 CFR chapter I as follows:

PART 501—AUTHORIZATION TO MANUFACTURE AND DISTRIBUTE POSTAGE EVIDENCING SYSTEMS

1. The authority citation for part 501 continues to read as follows:

Authority: 5 U.S.C. 552(a); 39 U.S.C. 101, 401, 403, 404, 410, 2601, 2605; Inspector General Act of 1978, as amended (Pub. L. 95-452, as amended); 5 U.S.C. App. 3.

§ 501.21 [Removed]

2. Remove § 501.21.

Joshua J. Hofer,
Attorney, Federal Compliance.

[FR Doc. 2020-13566 Filed 7-9-20; 8:45 am]

BILLING CODE 7710-12-P